DEPARTMENT OF AGRICULTURE

Natural Resources Conservation Service

[Docket ID: NRCS-2025-0005]

Notice of Request for Renewal of a Currently Approved Information Collection; Composting and Food Waste Reduction (CFWR) Cooperative Agreements

AGENCY: Office of Urban Agriculture and Innovative Production, Natural Resources Conservation Service, U.S. Department of Agriculture.

ACTION: Notice; request for comment.

SUMMARY: In accordance with the Paperwork Reduction Act of 1995, this notice invites the general public and other public agencies to comment on this proposed information collection. This collection is an extension, without change, of a currently approved collection for reporting progress on a Composting and Food Waste Reduction Cooperative Agreement.

DATES: Written comments must be received on or before September 22, 2025.

ADDRESSES: Comments may be sent to: Sharonte Williams, Natural Resources Conservation Service, U.S. Department of Agriculture, 3737 Government St., Alexandria, LA 71302. Comments may also be submitted via fax to the attention of Sharonte Williams at 202-981-1653 or via email to sharonte.williams@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Sharonte Williams at 202-981-1653 or via email to sharonte.williams@usda.gov.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Office of Urban Agriculture and Innovative Production (OUAIP) Reporting Form.

Form Number: NRCS-OUAIP-1.

OMB Number: 0578-0033.

Expiration Date: 12-31-2025.

Type of Request: Extension, without change, of a currently approved collection.

Abstract: The 2018 Farm Bill authorized the FPAC mission area and NRCS to carry out pilot projects under which local and municipal governments enter into cooperative agreements to develop and test strategies for planning and implementing municipal composting plans and food waste reduction plans. The NRCS-OUAIP-1 form was created to ensure the standardization of data collection across projects to determine the efficiency and efficacy of program deliverables. The form is designed to increase collection efficientcy and ease the burden of recipient reporting through clearly defined data targets, no new reporting burden is being added.

Affected Public: State, Local and Tribal Government: Local governments are the primary recipients of CFWR awards and will be exclusively affected but with no additional reporting requirments.

Estimated Number of Respondents: We expect 100 respondents to be affected, submitting reports directly to NRCS as part of the reporting requirments listed in their agreements.

Estimated Number of Responses per Respondent: See supporting document, varying responses per document.

Estimated Total Annual Responses: 1,125.

Estimated Time per Response: See supporting document, varying responses per document.

Estimated Total Annual Burden on Respondents: 281 non-exempt hours. See the table below for estimated total annual burden for respondents.

Respondent | Estimated number of respondent | Responses annually per respondent | Total annual responses (col. bxc) | Estimated average number of hours per response | Estimated total hours (col. dxe)
Reporting Burden
OUAIP Progress Report (OMB #0578-0033) | 75 | 2 | 150 | 1.00 | 150
Project Summary | 100 | 1 | 100 | 1.00 | 100
Negotiated Indirect Cost Rate Agreement (NICRA/De Minimus)— | 75 | 1 | 75 | 0.25 | 19
Notice of Award (signature only) | 25 | 1 | 25 | 0.50 | 13
Request for Advance or Reimbursement (OMB #4040-0012) * | 75 | 4 | 300 | 1.00 | 300
Application for Federal Assistance * (OMB #4040-0020) | 100 | 1 | 100 | 1.00 | 100
Budget Information for Non-Construction * (4040-0006) | 100 | 1 | 100 | 1.00 | 100
Federal Financial Report * (OMB #4040-0014) | 75 | 2 | 150 | 2.00 | 300
Certificate Regarding Lobbying (OMB #4040-0013) * | 100 | 1 | 100 | 0.50 | 50
Disclosure of Lobbying Activities (OMB #4040-0013) * | 25 | 1 | 25 | 1.00 | 25
Total Reporting Burden | 750 |  | 1,125 |  | 1,157

Aubrey Bettencourt,
Administrator, Natural Resources Conservation Service.

[FR Doc. 2025-13941 Filed 7-23-25; 8:45 am]

BILLING CODE 3410-16-P